DEPARTMENT OF AGRICULTURE

Rural Housing Service

Faith-Based and Community Initiatives-Equal Treatment Rule; Notice of Request for Collection of Public Information With the Use of a Survey

AGENCY: Rural Housing Service, USDA.

ACTION: Proposed collection; comments requested.

SUMMARY: In accordance with the Paperwork Reduction Act of 1995, this notice announces the Rural Development's intention to request clearance for a new information collection to measure Rural Development implementation of and compliance with the Equal Treatment Rule (7 CFR part 16) and Executive Order (EO) 13279 Equal Protection of the Laws for Faith-Based and Community Organizations.

DATES: Comments on this notice must be received by January 19, 2007 to be assured of consideration.

FOR FURTHER INFORMATION CONTACT: Rhonda Brown, Faith-Based and Community Initiatives Coordinator, Operations and Management, Rural Development, 1400 Independence Avenue, SW., Washington, DC 20250, phone: (202) 692-0298, e-mail: rhonda.brown@wdc.usda.gov.

SUPPLEMENTARY INFORMATION: Title: Rural Development-Voluntary Survey on the Equal Treatment Rule.

Type of Request: New Information Collection.

Abstract: The Faith-Based and Community Initiatives (FBCI) was implemented in the Department of Agriculture by Executive Order (EO) 13280-Responstibilities of the Department of Agriculture and the Agency for International Development with Respect to Faith-Based and Community Initiatives, December 12, 2002. FBCI Reporting and Outreach began in Rural Development in 2004. Now that the programs are in the third year of this Presidential Initiative and to meet the long term goal of improved participant outcomes, it is time to measure customer experience with Rural Development's implementation of the Equal Treatment Rule and establish compliance benchmarks. The 14 Rural Development programs under the FBCI provide insured or guaranteed loans and/or grants to eligible applicants (including non-profit entities) located in rural geographic areas to assist them in providing services to beneficiaries, low-income individuals, and communities. Loan and grant applications and awards are processed through approximately 900 Field Offices. In accordance with Government

Performance and Results Act (GPRA) and EO 13280, the results of the survey will enable Rural Development to measure the results and overall effectiveness of FBCI outreach and implementation of and compliance with the Equal Treatment Rule and EO Orders 13279 and 13280, as well as implement compliance action plans and measure improvements.

Estimate of Burden: Public reporting burden for this collection of information is estimated to average 5 minutes per response.

Respondents: Program non-profit applicants.

Estimated Number of Respondents: 4,000.

Estimated Number of Responses per Respondent: 1.

Estimated Number of Responses: 4,000.

Estimated Total Annual Burden on Respondents: 320 hours.

Copies of this information collection can be obtained from Cheryl Thompson, Regulations and Paperwork Management Branch, Support Services Division at (202) 692-0043.

Comments

Comments are invited on: (a) Whether the proposed collection of information is necessary for the proper performance of the functions of the agency, including whether the information will have practical utility; (b) the accuracy of agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Written comments may be sent to Cheryl Thompson, Regulations and Paperwork Management Branch, Support Services Division, U.S. Department of Agriculture, Rural Development, STOP 0742, 1400 Independence Ave., SW., Washington, DC 20250-0742. Comments may also be submitted electronically through Regulations.gov. All responses to this notice will be summarized and included in the request for OMB approval. All comments will also become a matter of public record.

Dated: November 9, 2006.
Russell T. Davis,
Administrator, Rural Housing Service.

[FR Doc. E6-19501 Filed 11-17-06; 8:45 am]

BILLING CODE 3410-XT-P